DEPARTMENT OF HEALTH AND HUMAN SERVICES

Food and Drug Administration

[Docket No. 2007C-0245]

Nippon Oil Corp.; Filing of Color Additive Petition

AGENCY: Food and Drug Administration, HHS.

ACTION: Notice.

SUMMARY: The Food and Drug Administration (FDA) is announcing that Nippon Oil Corp. has filed a petition proposing that the color additive regulations be amended to provide for the safe use of Paracoccus carotinifaciens granules as a color additive in the feed of salmonid fish to enhance the color of their flesh.

FOR FURTHER INFORMATION CONTACT: Mical E. Honigfort, Center for Food Safety and Applied Nutrition (HFS-265), Food and Drug Administration, 5100 Paint Branch Pkwy., College Park, MD 20740-3835, 301-436-1278.

SUPPLEMENTARY INFORMATION: Under the Federal Food, Drug, and Cosmetic Act (21 U.S.C. 379e(d)(1)), notice is given that a color additive petition (CAP 7C0283) has been filed by Nippon Oil Corp., c/o Beckloff Assoc., 7400 West 110th St., suite 300, Overland Park, KS 66210. The petition proposes to amend the color additive regulations in 21 CFR part 73 to provide for the safe use of Paracoccus carotinifaciens granules as a color additive in the feed of salmonid fish to enhance the color of their flesh.

The agency has determined under 21 CFR 25.32(r) that this action is of a type that does not individually or cumulatively have a significant effect on the human environment. Therefore, neither an environmental assessment nor an environmental impact statement is required.

Dated: June 28, 2007.
Laura M. Tarantino,
Director, Office of Food Additive Safety, Center for Food Safety and Applied Nutrition.

[FR Doc. E7-13161 Filed 7-6-07; 8:45 am]

BILLING CODE 4160-01-S